FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011353-035.

Title: The Credit Agreement.

Parties: Crowley Latin America Services, LLC; Dole Ocean Cargo Express; King Ocean Services de Venezuela/King Ocean Services Limited; Seaboard Marine of Florida, Inc.; and Seaboard Marine Ltd.

Filing Party: Wayne R. Rohde, Esq.; Cozen O'Conner; 1627 I Street, NW., Suite 1100; Washington, DC 20006-4007.

Synopsis: The amendment deletes APL Co. PTE Ltd. as a party to the Agreement.

Agreement No.: 011426-050.

Title: West Coast of South America Discussion Agreement.

Parties: A.P. Moller-Maersk A/S; APL Co. Pte Ltd.; Compania Chilena de Navigacion Interoceanica, S.A.; Compania Sud Americana de Vapores, S.A.; Frontier Liner Services, Inc.; Hamburg-Süd; Interocean Lines, Inc.; King Ocean Services Limited, Inc.; Mediterranean Shipping Company, SA; Seaboard Marine Ltd.; South Pacific Shipping Company, Ltd. (dba Ecuadorian Line); and Trinity Shipping Line.

Filing Party: Wayne R. Rohde, Esq.; Cozen O'Conner; 1627 I Street, NW, Suite 1100; Washington, DC 20006-4007.

Synopsis: The amendment would add CMA CGM, S.A. as a party to the agreement.

Agreement No.: 012108-002.

Title: The World Liner Data Agreement.

Parties: ANL Container Line Pty Ltd.; A.P. Moller-Maersk A/S; CMA CGM S.A.; Compania Chilena de Navegacion Interoceanica S.A.; Compania Sud Americana de Vapores S.A. ; Hamburg-Sud; Hapag-Lloyd AG; Independent Container Line Ltd.; Mediterranean Shipping Company S.A.; Orient Overseas Container Line Ltd.; and United Arab Shipping Company S.A.G.

Filing Party: Wayne Rohde, Esq.; Cozen O'Connor; 627 I Street, NW; Suite 1100; Washington, DC 20006.

Synopsis: The amendment adds the Evergreen Line Joint Service Agreement, Hanjin Shipping Company, Ltd., Hyundai Merchant Marine Co., Ltd., and Turkon Konteyner Tasimacilik ve Denizcilik A.S. as parties to the Agreement.

Agreement No.: 200955-002.

Title: Howland Hook/Global Terminal Agreement.

Parties: Global Terminal & Container Services, LLC. and New York Container Terminal, LLC.

Filing Party: Christine Riedy, Esq.; Hill, Betts & Nash, LLP; 200 Liberty Street; 26th Floor; New York, New York 10281.

Synopsis: The amendment deletes Howland Hook Leasing as a party to the agreement, updates the names of the remaining parties, and changes the name of the agreement to New York Container Terminal/Global Container Terminal Agreement.

By Order of the Federal Maritime Commission.
Dated: March 11, 2011.
Rachel Dickon,
Assistant Secretary.

[FR Doc. 2011-6136 Filed 3-15-11; 8:45 am]

BILLING CODE 6730-01-P